DEPARTMENT OF TRANSPORTATION

Federal Aviation Administration

Notice of Intent To Rule on Application 03-04-C-00-AOO To Impose, and Impose and Use the Revenue From a Passenger Facility Charge (PFC) at Altoona-Blair County Airport, Martinsburg, PA

AGENCY: Federal Aviation Administration (FAA), DOT.

ACTION: Notice of intent to rule on application.

SUMMARY: The FAA proposes to rule and invites public comment on the application to impose, and impose and use the revenue from a PFC at Altoona-Blair County Airport under the provisions of the 49 U.S.C. 40117 and part 158 of the Federal Aviation Regulations (14 CFR part 158).

DATES: Comments must be received on or before December 19, 2003.

ADDRESSES: Comments on this application may be mailed or delivered in triplicate to the FAA at the following address: Ms. Lori Ledebohm, Community Planner/PFC Contact, Harrisburg Airports District Office, 3905 Hartzdale Drive, Suite 508, Camp Hill, PA 17011.

In addition, one copy of any comments submitted to the FAA must be mailed or delivered to Charles E. Pillar, Jr. C.M. of Blair County Airport Authority at the following address: 2 Airport Drive, Martinsburg, Pennsylvania 16662.

Air carriers and foreign air carriers may submit copies of written comments previously provided to Blair County Airport Authority under section 158.23 of part 158.

FOR FURTHER INFORMATION CONTACT: Lori Ledebohm, Community Planner/PFC contact, Harrisburg Airports District Office, 3905 Hartzdale Drive, Suite 508, Camp Hill, PA 17011, 717-730-2835. The application may be reviewed in person at this same location.

SUPPLEMENTARY INFORMATION: The FAA proposes to rule and invites public comment on the application to impose, and impose and use the revenue from a PFC at University Park Airport under the provisions of the 49 U.S.C. 40117 and part 158 of the Federal Aviation Regulations (14 CFR part 158).

On October 3, 2004, the FAA determined that the application to impose, and impose and use the revenue from a PFC submitted by Blair County Airport Authority was substantially complete within the requirements of section 158.25 of Part 158. The FAA will approve or disapprove the application, in whole or in part, no later than January 2, 2004.

The following is a brief overview of the application.

Proposed charge effective date: January 1, 2004.

Proposed charge expiration date: January 31, 2008.

Level of the proposed PFC: $3.00.

Total estimated PFC revenue: $232,460.

Brief description of proposed project(s):

Impose Only

Extend Runway 12-30 Phase I, Design, and Conduct Environmental Assessment Study, Phase II.

Impose and Use

Develop PFC Program and PFC Application.

Construct Aircraft Rescue and Fire Fighting Building.

Rehabilitate T-hangar Taxilane and Terminal Apron.

Acquire Snow Removal Equipment.

Security Enhancements.

Acquire Land for Runway 2-20 Primary Surface, Phase I and Phase II.

Improve Snow Removal Building.

Improve Runways 2-20, Runway Safety Areas, Phase I, Environmental & Design.

Expand South Hangar Apron, Phase I Environmental & Design.

ARFF Gear, Fire Retardant Clothing/SCBA's.

Class or classes of air carriers which the public agency has requested not be required to collect PFCs: Part 135 Charter Operators.

Any person may inspect the application in person at the FAA office listed above under FOR FURTHER INFORMATION CONTACT and at the FAA regional Airports office located at: Eastern Region, Airports Division, AEA-610, 1 Aviation Place, Jamaica, New York 11434.

In addition, any person may, upon request, inspect the application, notice and other documents germane to the application in person at Blair County Airport Authority.

Issued in Camp Hill, PA, on November 5, 2003.
Lori Ledebohm,
PFC Coordinator, Harrisburg Airports District Office, Eastern Region.

[FR Doc. 03-28826 Filed 11-18-03; 8:45 am]

BILLING CODE 4910-13-M